INTERNATIONAL TRADE COMMISSION

[Investigation No. 731-TA-125 (Second Review)]

Potassium Permanganate From China

Determination

On the basis of the record ¹ developed in the subject five-year review, the United States International Trade Commission determines, pursuant to section 751(c) of the Tariff Act of 1930 (the Act),² that revocation of the antidumping duty order on potassium permanganate from China would be likely to lead to continuation or recurrence of material injury to an industry in the United States within a reasonably foreseeable time.

¹ The record is defined in sec. 207.2(f) of the Commission's Rules of Practice and Procedure (19 CFR 207.2(f)).

² 19 U.S.C. 1675(c).

Background

The Commission instituted this review on October 1, 2004 (69 FR 58955), and determined on January 4, 2005, that it would conduct an expedited review (70 FR 2428, January 13, 2005).

The Commission transmitted its determination in this review to the Secretary of Commerce on May 31, 2005. The views of the Commission are contained in USITC Publication 3778 (June 2005), entitled Potassium Permanganate from China: Investigation No. 731-TA-125 (Second Review).

Issued: May 26, 2005.
By order of the Commission.
Marilyn R. Abbott,
Secretary to the Commission.

[FR Doc. 05-10964 Filed 6-1-05; 8:45 am]

BILLING CODE 7020-02-P